DEPARTMENT OF COMMERCE

International Trade Administration

[A-570-840]

Manganese Metal From the People's Republic of China; Final Results of Antidumping Duty Administrative Review

AGENCY: Import Administration, International Trade Administration, Department of Commerce.

ACTION: Notice of final results of antidumping duty administrative review of manganese metal from the People's Republic of China.

SUMMARY: We have determined that sales by China Metallurgical Import & Export Hunan Corporation/Hunan Nonferrous Metals Import & Export Associated Corporation and by China Hunan International Economic Development (Group) Corporation have been made below normal value during the period of review of February 1, 1998, through January 31, 1999. Based on our analysis of the comments received, we have made changes in the margin calculation of China Metallurgical Import & Export Hunan Corporation/Hunan Nonferrous Metals Import & Export Associated Corporation. Consequently, the final results differ from the preliminary results. The final weighted-average dumping margin for this firm is listed below in the section entitled “Final Results of the Review.” Based on these final results of review, we will instruct the Customs Service to assess antidumping duties based on the difference between the export price and normal value on all appropriate entries. China Hunan International Economic Development (Group) Corporation did not respond to our questionnaire and has been assigned a dumping margin based on adverse facts available.

EFFECTIVE DATE: May 10, 2000.

FOR FURTHER INFORMATION CONTACT: Greg Campbell or Suresh Maniam, Group 1, Office I, Antidumping/Countervailing Duty Enforcement, Import Administration, International Trade Administration, U.S. Department of Commerce, 14th Street and Constitution Avenue NW., Washington, DC 20230; telephone (202) 482-2239 or (202) 482-0176, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (Department) regulations are to 19 CFR part 351 (1999).

Background

On December 9, 1999, the Department published the Preliminary Results.¹ The review covers two PRC exporters. The period of review (POR) is February 1, 1998, through January 31, 1999. We invited parties to comment on our preliminary results of review. At the request of certain interested parties, we held a public hearing on February 3, 2000. The Department has conducted this administrative review in accordance with section 751 of the Act.

¹ Manganese Metal from the People's Republic of China; Preliminary Results and Partial Rescission of Antidumping Duty Administrative Review, 64 FR 68999 (December 9, 1999) (Preliminary Results).

Scope of Review

The merchandise covered by this review is manganese metal, which is composed principally of manganese, by weight, but also contains some impurities such as carbon, sulfur, phosphorous, iron and silicon. Manganese metal contains by weight not less than 95 percent manganese. All compositions, forms and sizes of manganese metal are included within the scope of this administrative review, including metal flake, powder, compressed powder, and fines. The subject merchandise is currently classifiable under subheadings 8111.00.45.00 and 8111.00.60.00 of the Harmonized Tariff Schedule of the United States (HTSUS). Although the HTSUS subheadings are provided for convenience and customs purposes, our written description of the scope of this proceeding is dispositive.

Analysis of Comments Received

All issues raised in the case and rebuttal briefs by parties to this administrative review are addressed in the “Issues and Decision Memorandum” (Decision Memo) from Richard W. Moreland, Deputy Assistant Secretary, Import Administration, to Troy H. Cribb, Acting Assistant Secretary for Import Administration, dated May 3, 2000, which is hereby adopted by this notice. A list of the issues which parties have raised and to which we have responded, all of which are in the Decision Memo, is attached to this notice as an Appendix. Parties can find a complete discussion of all issues raised in this review and the corresponding recommendations in this public memorandum which is on file in the Central Records Unit, room B-099 of the main Department building. In addition, a complete version of the Decision Memo can be accessed directly on the Web at www.ita.doc.gov/import_admin/records/frn/. The paper copy and electronic version of the Decision Memo are identical in content.

Changes Since the Preliminary Results

Based on our analysis of comments received, we have made certain changes in the margin calculation for China Metallurgical Import & Export Hunan Corporation/Hunan Nonferrous Metals Import & Export Associated Corporation (CMIECHN/CNIECHN). These changes are as follows:

Ore 2: To value Ore 2, we are using an average of two price quotations from separate Indian manganese ore producers. See the Decision Memo at Comment 4.

Electricity: We have derived a surrogate value for electricity based on electricity price data published by the Center for Monitoring Indian Economy (CMIE) and on an electricity-specific price index published by the Reserve Bank of India. See the Decision Memo at Comment 5.

Factory Overhead, SG&A and Profit: We have derived surrogate ratios for factory overhead, SG&A and profit based on financial data for Indian nonferrous metals producers, as published by the CMIE. See the Decision Memo at Comment 9.

Ocean Freight: We have used as a surrogate value for ocean freight information obtained from the Federal Maritime Commission on freight rates during the POR. See the Decision Memo at Comment 12.

Final Results of Review

We determine that the following percentage weighted-average margins exist for the period February 1, 1998, through January 31, 1999:

Exporter | Margin (percent)
CMIECHN/CNIECHN | 36.49
PRC-wide | 143.32

The Department shall determine, and Customs shall assess, antidumping duties on all appropriate entries. The Department will issue appraisement instructions directly to the Customs Service.

In order to assess duties on appropriate entries as a result of this review, we have calculated entry-specific duty assessment rates based on the ratio of the amount of duty calculated for each of CMIECHN/CNIECHN's verified sales during the POR to the entered value of the corresponding entry. The Department will instruct the Customs Service to assess these rates on those entries which correspond to sales verified by the Department as having been made directly by CMIECHN/CNIECHN. With respect to Sumitomo Canada, Ltd. (SCL) and London & Scandinavian Metallurgical Co., Ltd. (LSM), third-country resellers which established the identity of their PRC suppliers, the Department will instruct Customs to liquidate these entries at the cash deposit rate in effect for their supplier(s) at the time of entry.

As discussed in the Preliminary Results,² however, the Customs entry data for the POR indicates that many more shipments of manganese metal listing CMIECHN/CNIECHN as the manufacturer/exporter were entered into the United States than the number of POR sales reported by CMIECHN/CNIECHN. On those entries listing CMIECHN/CNIECHN as the direct exporter but for which there are no corresponding verified sales or sales by LSM or SCL, the Department will instruct the Customs Service to assess the PRC-wide rate of 143.32 percent. This is consistent with the Department's practice as applied during the previous review.³ The Department will likewise instruct the Customs Service to assess the PRC-wide rate on all POR entries from China Hunan International Economic Development (Group) Corporation (HIED) and on all entries from other PRC exporters that do not have separate rates.

² 64 FR at 69001.

³ Manganese Metal from the People's Republic of China; Final Results of Antidumping Duty Administrative Review, 64 FR 49449 (September 13, 1999).

Cash Deposit Requirements

The following deposit requirements will be effective upon publication of this notice of final results of administrative review for all shipments of manganese metal from the PRC entered, or withdrawn from warehouse, for consumption on or after the date of publication of this notice, as provided by section 751(a)(1) of the Act: (1) The cash deposit rate for CMIECHN/CNIECHN will be the rate shown above; (2) for previously reviewed or investigated companies not listed above, the cash deposit rate will continue to be the company-specific rate published for the most recent period; (3) for sales made by LSM, SCL and other non-PRC exporters of subject merchandise from the PRC, the cash deposit rates will be those cash deposit rates in effect at the time of entry for their respective PRC supplier(s); ⁴ and (4) for all other PRC exporters, including HIED, the cash deposit rate will be 143.32 percent. This rate is the “PRC-wide” rate from the less-than-fair-value investigation. These deposit requirements shall remain in effect until publication of the final results of the next administrative review.

⁴ See e.g., Manganese Metal from the People's Republic of China; Final Results of Antidumping Duty Administrative Review, 64 FR 49447 (September 13, 1999); Fresh Garlic from the PRC; Final Results of Antidumping Duty Administrative Review and Partial Termination of Administrative Review, 62 FR 23758, 23760 (May 1, 1997); Sparklers from the PRC; Final Results of Antidumping Duty Administrative Review, 61 FR 39630, 39631 (July 30, 1996).

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections section 751(a)(1) and 771(i) of the Act.

Dated: May 3, 2000.
Troy H. Cribb,
Acting Assistant Secretary for Import Administration.

Appendix— List of Comments and Issues in the Decision Memorandum

Comment 1: Application of China-wide Rate

Comment 2: Normal Value for SCL

Comment 3: Factual Information Regarding CMIECHN/CNIECHN

Comment 4: Ore Valuation

Comment 5: Electricity Valuation

Comment 6: Liquid Ammonia Valuation

Comment 7: Selenium Dioxide Valuation

Comment 8: Positive Mud Valuation

Comment 9: Factory Overhead, SG&A, and Profit Valuation

Comment 10: Excluding Labor from Factory Overhead and SG&A Ratios

Comment 11: Ocean Freight—Use of Reported Costs

Comment 12: Ocean Freight Valuation

[FR Doc. 00-11736 Filed 5-9-00; 8:45 am]

BILLING CODE 3510-DS-P